COMMISSION ON CIVIL RIGHTS

Sunshine Act Meeting Notice

AGENCY: United States Commission on Civil Rights.

ACTION: Notice of Commission Briefing and Business Meeting.

DATES: Friday, March 18, 2016, at 9 a.m. EST.

ADDRESSES: National Place Building, 1331 Pennsylvania Ave. NW., 11th Floor, Suite 1150, Washington, DC 20245 (Entrance on F Street NW.)

FOR FURTHER INFORMATION CONTACT: Gerson Gomez, Media Advisor at telephone: (202) 376-8371, TTY: (202) 376-8116 or email: publicaffairs@usccr.gov.

SUPPLEMENTARY INFORMATION: This briefing and business meeting are open to the public. The public may listen on the following toll-free number: 1-888-572-7033. Please provide the operator with conference ID number 6194124.

Hearing-impaired persons who will attend the briefing and require the services of a sign language interpreter should contact Pamela Dunston at (202) 376-8105 or at signlanguage@usccr.gov at least seven business days before the scheduled date of the meeting.

During the briefing portion, Commissioners will ask questions and discuss the briefing topic with the panelists. The public may submit written comments on the topic of the briefing to the above address for 30 days after the briefing. Please direct your comments to the attention of the “Staff Director” and clearly mark “Briefing Comments Inside” on the outside of the envelope. Please note we are unable to return any comments or submitted materials. Comments may also be submitted by email to municiapalfees@usccr.gov.

Meeting Agenda

I. Approval of Agenda

II. Briefing on Municipal Policing and Courts: A Search for Justice or a Quest for Revenue

A. Opening Remarks: 9:00 a.m.-9:20 a.m. *Please note that the time frames and panels provided herein are approximate and subject to change.

B. Panel One: National experts and legal scholars, who will speak about the historical context of revenue-generating practices in the municipal court system, how they have evolved, how pervasive such practices are across the country, and possible solutions.—9:20 a.m.-10:35 a.m.

Speakers' Remarks

• Vikrant Reddy, Charles Koch Institute

• Thomas Harvey, Arch City Defenders

• Nusrat Choudhury, American Civil Liberties Union

• Emily Napier, Center for Community Alternatives

Questions from Commissioners

C. Panel Two: Community leaders and advocates that have work directly with individuals from low-income communities of color and will describe how the deliberate of generating revenue through the municipal courts has negatively impacted their lives both directly and indirectly.—10:35 a.m.-11:50 a.m.

Speakers' Remarks

• Starsky Wilson, Co-Chairman of the Ferguson Commission

• Bennie Small, NAACP Hillsborough County Branch

• Kelsey Antle, Brennan Center for Justice

• Mitali Nagrecha, Center for Community Alternatives

Questions from Commissioners

D. 11:50 a.m.-12:05 p.m.—Break

E. Panel Three: Scholars and criminal justice experts who can demonstrate empirically how the practice of generating revenue through the municipal court system has impacted low-income communities of color.—12:05 p.m.-1:20 p.m.

Speakers' Remarks

• Joshua House, Institute for Justice

• Janene McCabe, National Association of Public Defense

• Alexes Harris, University of Washington

• Karin Martin, John Jay College of Criminal Justice

Questions from Commissioners

F. Adjourn Briefing

III. Lunch: 1:20 p.m.-2:20 p.m.

IV. Business Meeting: 2:30 p.m.-4 p.m.

A. Program Planning

a. Discussion about moving the December 2016 Business Meeting to December 2, 2016

b. Discussion and Vote on the National Voter Registration Act Report and Findings and Recommendations

c. Discussion and vote on Uniontown Town Hall

a. Advisory Committees

b. Management and Operations

• Staff Director's Report

c. Other

d. Discussion and vote on follow-up letters on issue of denial of birth certificates to U.S. citizen children in Texas

V. Adjourn Meeting

Dated: March 8, 2016.
David Mussatt,
Regional Programs Unit Chief, U.S. Commission on Civil Rights.

[FR Doc. 2016-05616 Filed 3-9-16; 11:15 am]

BILLING CODE 6335-01-P